DEPARTMENT OF THE INTERIOR

Bureau of Land Management

[OR-100-1430-ET; ORE-05564]

Termination of Classification and Opening Order, Oregon

AGENCY: Bureau of Land Management, Interior.

ACTION: Notice of realty action.

SUMMARY: This notice terminates a Small Tract Classification and opens certain land near Winston, Oregon, that was classified for small tract lease under the Small Tract Act of June 1, 1938 (52 Stat. 609) as amended, to such uses as may be made of Reconveyed Coos Bay Wagon Road Grant Lands.

EFFECTIVE DATE: May 20, 2003.

FOR FURTHER INFORMATION CONTACT: Diann Rasmussen, South River Field Office, 777 NW., Garden Valley Blvd, Roseburg, Oregon 97470; 541-464-3292.

SUPPLEMENTARY INFORMATION: Classification Order No. L-10891 dated October 7, 1958, segregated the land described below from the public land laws and location and entry under the United States mining laws. The land remained open to the mineral leasing laws and the Small Tract Act for which a lease was issued. The lease has since expired and the land restored to its previous condition thereby making it suitable for such uses as may be made of Revested Coos Bay Wagon Road Grant Lands. Therefore, subject to valid existing rights, the provisions of existing withdrawals and other segregations of record, and pursuant to the regulations contained under 43 CFR 2091.7-1(b)(2), at 8 a.m. on May 20, 2003 land classification number L-10891, dated October 7, 1958, is hereby terminated in its entirety insofar as it affects the following described land:

Willamette Meridian, Oregon

T. 28 S., R. 7 W.,

Sec. 15, that portion of lots 12 and 13 formerly described as the south 3 chains of lot 6.

The area described contains 3 acres, more or less, in Douglas County.

All valid applications received prior to 8 a.m., on June 19, 2003, shall be considered as simultaneously filed at that time.

Mark Buckbee,
Acting District Manager.

[FR Doc. 03-12513 Filed 5-19-03; 8:45 am]

BILLING CODE 4310-33-P